RAILROAD RETIREMENT BOARD

Sunshine Act Meeting; Notice of Public Hearing

Notice is hereby given that the Railroad Retirement Board, acting through its appointed Hearing Examiner, will hold a hearing on May 21, 2002, at 9 a.m., at the Board's meeting room on the 8th floor of its headquarters building, 844 North Rush Street, Chicago, Illinois, 60611. The hearing will be at the request of American Orient Express Railway Company LLC for the purpose of taking evidence relating to the status of the company as an employer covered by the Railroad Retirement and Railroad Unemployment Insurance Acts.

The entire hearing will be open to the public. The person to contact for more information is Karl Blank, Hearing Examiner, phone number (312) 751-4941, TDD (312) 751-4701.

Dated: May 7, 2002.
Beatrice Ezerski,
Secretary to the Board

[FR Doc. 02-11961 Filed 5-9-02; 10:34 am]

BILLING CODE 7905-01-M